DEPARTMENT OF LABOR

Bureau of Labor Statistics

Labor Research Advisory Council; Notice of Meetings and Agenda

The Fall meetings of committees of the Labor Research Advisory Council will be held on November 14 and 16. The Committee on Occupational Safety and Health Statistics will meet on December 12, 2000, and an agenda will be provided at a later date. All of the meetings will be held in the Conference Center, of the Postal Square Building (PSB), 2 Massachusetts Avenue, NE., Washington, DC.

The Labor Research Advisory Council and its committees advise the Bureau of Labor Statistics with respect to technical matters associated with the Bureau's programs. Membership consists of union research directors and staff members. The schedule and agenda of the meetings are as follows:

Tuesday, November 14, 2000

9:30 a.m.—Committee on Employment and Unemployment Statistics—Meeting Room 9

1. Progress of BLS research on disability measurement.

2. Overview of just-completed BLS longitudinal database (LDB), containing the employment and wages of virtually all business establishments in the U.S. linked back to 1990, and review of first tabulation from the LDB of job creation and job destruction by industry and firm size.

3. Occupational Employment Statistics (OES) research results.

a. Evaluation of OES interval mean estimation procedure.

b. Evaluation of OES procedures for estimating hourly and annual wages.

c. Comparison of OES and NCS estimates for Houston.

4. Discussion of agenda items for future meetings.

1:30 p.m.—Committee on Prices and Living Conditions Meeting Room 9

1. Update on program developments.

a. Consumer Price Index.

b. International Price Indexes.

c. Producer Price Indexes.

2. Discussion of agenda items for future meetings.

Thursday, November 16, 2000

9:30 a.m.—Committee on Productivity, Technology and Growth—Meeting Room 8

1. Schedule and assumptions for the 2000-2010 employment projections.

2. New multifactor productivity results: National Income and Product Accounts revisions, high tech capital, and purchased service inputs.

3. Planned multifactor productivity series for 3-digit manufacturing industries.

4. Incorporation of CPI-U-RS indexes into the productivity and costs measures for retail trade industries.

5. Discussion of agenda items for future meetings.

Committee on Foreign Labor Statistics

1. Comparability of BLS comparative manufacturing productivity measures.

2. Discussion of agenda items future meetings.

1:30 p.m.—Committee on Compensation and Working Conditions—Meeting Room 8

1. Employment Cost Index and National Compensation Survey enhancements.

2. Benefits data for union and nonunion workers.

3. Employer-provided educational assistance benefits.

4. Results of BLS pilot survey of stock options.

5. Discussion of agenda items for future meetings.

The meetings are open to the public. Persons planning to attend these meetings as observers may want to contact Wilhelmina Abner on (Area Code 202) 691-5970.

Signed at Washington, D.C. this 25th day of October, 2000.
Katharine G. Abraham,
Commissioner.

[FR Doc. 00-28244 Filed 11-2-00; 8:45 am]

BILLING CODE 4510-24-M